DEPARTMENT OF HOMELAND SECURITY

Transportation Security Administration

Extension of Agency Information Collection Activity Under OMB Review: Screening Partnership Program

AGENCY: Transportation Security Administration, DHS.

ACTION: 30-Day notice.

SUMMARY: This notice announces that the Transportation Security Administration (TSA) has forwarded the Information Collection Request (ICR), Office of Management and Budget (OMB) control number 1652-0064, abstracted below to OMB for review and approval of an extension of the currently approved collection under the Paperwork Reduction Act. The ICR describes the nature of the information collection and its expected burden. The collection involves an application completed by airport operators interested in using a qualified private screening company to perform security screening functions under a contract entered into with TSA instead of Federal employees.

DATES: Send your comments by May 22, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on October 24, 2024. See 89 FR 84926. TSA did not receive any comments on the notice.

Comments Invited

In accordance with the Paperwork Reduction Act of 1995 (44 U.S.C. 3501 et seq.), an agency may not conduct or sponsor, and a person is not required to respond to, a collection of information unless it displays a valid OMB control number. This ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Screening Partnership Program Application.

Type of Request: Extension.

OMB Control Number: 1652-0064.

Form(s): TSA Form 424 Screening Partnership Program Application.

Affected Public: Airport Operators.

Abstract: Under 49 U.S.C. 44920, an airport operator may submit an application to TSA to have the screening of passengers and property required by 49 U.S.C. 44901 conducted by personnel of a qualified private screening company pursuant to a contract entered into with TSA. TSA must approve the application if the approval “would not compromise security or detrimentally affect the cost-efficiency or the effectiveness of the screening of passengers or property at the airport.” TSA implements this requirement through the Screening Partnership Program. Participation in the Screening Partnership Program is initiated with the application covered by this information collection.

Estimated Annual Number of Respondents: 2.

Estimated Annual Burden Hours: 0.50.

Dated: April 16, 2025.
Christina A. Walsh,
TSA Paperwork Reduction Act Officer, Information Technology, Transportation Security Administration.

[FR Doc. 2025-06860 Filed 4-21-25; 8:45 am]

BILLING CODE 9110-05-P